DEPARTMENT OF HEALTH AND HUMAN SERVICES

National Institutes of Health

Notice of Meeting; Chairpersons, Boards of Scientific Counselors for Institutes and Centers at the National Institutes of Health

Notice is hereby given of a meeting scheduled by the Deputy Director for Intramural Research at the National Institutes of Health (NIH) with the Chairpersons of the Boards of Scientific Counselors. The Boards of Scientific Counselors are advisory groups to the Scientific Directors of the Intramural Research Programs at the NIH. This meeting will take place on May 12, 2006, from 10 a.m. to 3 p.m., at the NIH, 9000 Rockville Pike, Bethesda, MD, Building 1, Room 151. The meeting will include a discussion of policies and procedures that apply to the regular review of NIH intramural scientists and their work, with special emphasis on clinical research.

The meeting will be open to the public, with attendance limited to space available. Individuals who plan to attend and need special assistance, such as sign language interpretation or other reasonable accommodations, should contact Ms. Colleen Crone at the Office of Intramural Research, NIH, Building 1, Room 160, Telephone (301) 496-1921 or FAX (301) 402-4273 in advance of the meeting.

Dated: April 5, 2006.
Raynard Kington,
Deputy Director, NIH.

[FR Doc. 06-3702 Filed 4-18-06; 8:45 am]

BILLING CODE 4140-01-M